DEPARTMENT OF TRANSPORTATION

Federal Highway Administration

Notice of Final Federal Agency Actions on Fort Drum Connector, Towns of Le Ray and Pamelia, Jefferson County, New York

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project, that includes construction of a new four-lane divided highway on new alignment that connects Interstate 81 (I-81) to the Fort Drum Army Base North Gate in the Towns of Le Ray and Pamelia in the State of New York. Those actions grant licenses, permits, and approvals for the project.

DATES: By this notice, the FHWA is advising the public of final agency actions subject to 23 U.S.C. 139(l)(1). A claim seeking judicial review of the Federal agency actions on the highway project will be barred unless the claim is filed on or before November 9, 2009. If the Federal law that authorizes judicial review of a claim provides a time period of less than 180 days for filing such claim, then that shorter time period still applies.

FOR FURTHER INFORMATION CONTACT: Jeffrey W. Kolb, P.E., Division Administrator, Federal Highway Administration, New York Division, Leo W. O'Brien Federal Building, 7th Floor, Clinton Avenue and North Pearl Street, Albany, New York 12207, Telephone: (518) 431-4127 or R. Carey Babyak, P.E., Regional Director, NYSDOT Region 7; 317 Washington Street, Watertown, NY 13601, Telephone: (315) 785-2333

SUPPLEMENTARY INFORMATION: Notice is hereby given that the FHWA, and other Federal agencies have taken final agency actions subject to 23 U.S.C. 139(l)(1) by issuing licenses, permits, and approvals for the following highway project in the State of New York: Fort Drum Connector project in the Towns of Le Ray and Pamelia, Jefferson County. The project will construct a 4.3 mile (6.9 km) four-lane divided highway on new alignment in compliance with Interstate design standards. A new free-flow trumpet interchange at I-81 would be located approximately 0.75 miles (1.2 km) north of Exit 48 (NY Route 342). The east end of the Connector will have a Single Point Urban Interchange (SPUI) at the US Route 11/North Memorial Drive intersection that is controlled with a traffic signal. The highway will have full control of access, with traffic entering only at the proposed interchanges with I-81 & US Route 11. Existing intersecting roads will be spanned with bridge structures, relocated, or dead-ended at the new highway. The actions by the Federal agencies, and the laws under which such actions were taken, are described in the Final Environmental Impact Statement (FEIS) for the project, approved on December 31, 2008 and in the FHWA Record of Decision (ROD) issued on March 6, 2009. The FEIS, ROD, and other project records are available by contacting the FHWA or the New York State Department of Transportation at the addresses provided above.

This notice applies to all Federal agency decisions related to the Fort Drum Connector project as of the issuance date of this notice and all laws under which such actions were taken, including but not limited to:

1. National Environmental Policy Act [42 U.S.C. 4321-4351].

2. Federal-Aid Highway Act [23 U.S.C. 109 and 23 U.S.C. 128].

3. Clean Air Act [42 U.S.C. 7401-7671(q)].

4. Section 4(f) of the Department of Transportation Act of 1966 [49 U.S.C. 303].

5. Endangered Species Act [16 U.S.C. 1531-1544 and Section 1536].

6. Migratory Bird Treaty Act [16 U.S.C. 703-712].

7. Section 106 of the National Historic Preservation Act of 1966, as amended [16 U.S.C. 470(f) et seq.].

8. Civil Rights Act of 1964 [42 U.S.C. 2000(d)-2000(d)(1)].

9. Farmland Protection Policy Act [7 U.S.C. 4201-4209].

10. Wetlands and Water Resources: Clean Water Act (Section 404, Section 401, Section 319) [33 U.S.C. 1251-1377].

11. Land and Water Conservation Fund [16 U.S.C. 4601-4604].

12. Executive Order 11990 Protection of Wetlands.

13. Executive Order 11988 Floodplain Management.

14. Executive Order 12898, Federal Actions To Address Environmental Justice in Minority Populations and Low Income Populations.

(Catalog of Federal Domestic Assistance Program Number 20.205, Highway Planning and Construction. The regulations implementing Executive Order 12372 regarding intergovernmental consultation on Federal programs and activities apply to this program)

Authority: 23 U.S.C. 139(l)(1).

Issued on: April 30, 2009.
Jeffrey W. Kolb,
Division Administrator, Federal Highway Administration, Albany, New York.

[FR Doc. E9-10943 Filed 5-11-09; 8:45 am]

BILLING CODE 4910-RY-P